DEPARTMENT OF HEALTH AND HUMAN SERVICES

Health Resources and Services Administration

Agency Information Collection Activities: Proposed Collection: Public Comment Request; Information Collection Request Title: Rural Health Care Services Outreach Program Performance Improvement and Measurement Systems (PIMS) Measures, OMB No. 0906-0009—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than January 26, 2018.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Rural Health Care Services Outreach Program Performance Improvement and Measurement Systems (PIMS) Measures OMB No. 0906-0009 Revision.

Abstract: The Rural Health Care Services Outreach (Outreach) Program is authorized by Section 330A(e) of the Public Health Service (PHS) Act (42 U.S.C. 254c(e)), as amended, to “promote rural health care services outreach by expanding the delivery of health care services to include new and enhanced services in rural areas.” The goals for the Outreach Program are as follows: (1) Expand the delivery of health care services in rural communities; (2) deliver health care services through a strong consortium, in which every consortium member organization is actively involved and engaged in the planning and delivery of services; (3) utilize and/or adapt an evidence-based or promising practice model(s) in the delivery of health care services; and (4) improve population health, demonstrate health outcomes and sustainability.

Need and Proposed Use of the Information: The PIMS measures for the Outreach Program enable HRSA and the Federal Office of Rural Health Policy to capture awardee-level and aggregate data that illustrate the impact and scope of federal funding. The collection of this information helps further inform and substantiate the focus and objectives of the grant program. The measures encompass the following topics: (a) Access to care; (b) population demographics; (c) consortium/network; (d) sustainability; and (f) project specific domains.

There are proposed revisions to the currently approved Outreach Program PIMS measures. The proposed Outreach PIMS measures reflect a reduced number of measures including the following: 16 process measures applicable to all awardees (previously 22), consolidation of the project-specific measures (currently 7, previously 8), and 8 clinical measures (previously 9). In addition, the proposed measures include the addition of two Centers for Disease Control and Prevention (CDC) calculators: The CDC Heart Age calculator and the CDC BMI Percentile Calculator for Child and Teen. Data for both calculators will be collected on an aggregate level and only from awardees with applicable projects; the CDC Heart Age calculator is specific to awardees participating in the Health Improvement Special Project while the CDC BMI calculator is for projects focusing on childhood obesity.

Likely Respondents: The respondents are award recipients of the Rural Health Care Services Outreach Program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Name of instrument | 25 | 1 | 25 | 3.0 | 75.0
Total | 25 |  | 25 |  | 75.0

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Amy McNulty,
Acting Director, Division of the Executive Secretariat.

[FR Doc. 2017-25508 Filed 11-24-17; 8:45 am]

BILLING CODE 4165-15-P